DEPARTMENT OF ENERGY

Federal Energy Regulatory Commission

[Docket No. OR14-13-000]

Enbridge Energy, Limited Partnership; Notice of Supplement to Facilities Surcharge Settlement

Take notice that on December 13, 2013, in accordance with Rule 602(f) of the Commission's Rules of Practice and Procedure, 18 CFR 385.602(f), Enbridge Energy, Limited Partnership (Enbridge Energy), with the support of the Canadian Association of Petroleum Producers (CAPP), submitted a Supplement to the Facilities Surcharge Settlement approved by the Commission on June 30, 2004, in Docket No. OR04-2-000.

Initial comments and reply comments on the Settlement Supplement should be submitted on or before the dates indicated below.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceeding are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Comment Date: 5:00 p.m. Eastern time on January 15, 2014.

Reply Comments: 5:00 p.m. Eastern time on January 21, 2014.

Dated: January 8, 2014.
Kimberly D. Bose,
Secretary.

[FR Doc. 2014-00545 Filed 1-14-14; 8:45 am]

BILLING CODE 6717-01-P